DEPARTMENT OF LABOR

Veterans' Employment and Training Service (VETS)

Agency Information Collection Activities; Submission for OMB Review; Comment Request; Homeless Veterans' Reintegration Program Budget and Narrative Form

ACTION: Notice of information collection; request for comments.

SUMMARY: The Department of Labor (DOL), as part of its continuing effort to reduce paperwork and respondent burden, provides the general public and federal agencies with an opportunity to comment on proposed and/or continuing collections of information in accordance with the Paperwork Reduction Act of 1995 (PRA). This program helps to ensure that requested data can be provided in the desired format, reporting burden (time and financial resources) is minimized, collection instruments are clearly understood, and the impact of collection requirements on respondents is assessed. Currently, the DOL is soliciting comments on the information collection request (ICR) for the Budget and Narrative Form submitted by Homeless Veterans' Reintegration Program (HVRP) grant recipients regarding the preparation of the budget and budget narrative for use of grant funds and activities supporting expenditures for their HVRP.

DATES: Written comments must be submitted to the office listed in the ADDRESSES section below on or before August 11, 2025.

ADDRESSES: A copy of this ICR with applicable supporting documentation, including a description of the likely respondents, proposed frequency of response, and estimated total burden, may be obtained for free by contacting Chris Brown by telephone at (202) 693-2990 (this is not a toll-free number) or by email at HVRP@dol.gov.

Submit written comments about this ICR by email to: HVRP@dol.gov. Include “HVRP Budget and Narrative Form” in the subject line. Comments, including any personal information provided, become a matter of public record. They will also be summarized and/or included in the request for OMB approval of the information collection request.

FOR FURTHER INFORMATION CONTACT: Chris Brown, Homeless Veterans' Reintegration Program (HVRP) Lead- Office of Grants and Training, by telephone at (202) 693-2990 (this is not a toll-free number) or by email at HVRP@dol.gov.

SUPPLEMENTARY INFORMATION:

I. Background

The Department of Labor's VETS administers funds for the Homeless Veterans' Reintegration Program (HVRP) grant on an annual basis. These competitive grants are codified under 38 U.S.C. 2021, 2021A, and 2023. VETS provides funds to grant recipients through annual Funding Opportunity Announcements (FOA) and incremental funding throughout the grant's three-year (12 quarters) period of performance. The total number of grant recipients varies from year to year based on the amount of available funds. Grants are awarded up to $500,000 each year, for a total of up to $1,500,000 for the three-year period of performance.

The Assistant Secretary for Veterans' Employment and Training monitors and supervises the distribution and use of those funds as required by 38 U.S.C. 2021 and 38 U.S.C. 2021A. Additionally, and in accordance with 38 U.S.C. 2021(d), the Secretary shall collect such information as that Secretary considers appropriate to monitor and evaluate the distribution and expenditure of funds appropriated to carry out this section.

The approval of this form will create the use of standardized formats for grant recipients' preparation of the budget and budget narrative. In accordance with 2 CFR appendix-I-to-part-200(b)(4)(ii)(I), VETS' annual FOA requires the submission of a budget narrative for VETS' applicants to show that their proposed costs are allowable under 2 CFR 200.403 and are necessary and reasonable for carrying out the HVRP grant. Collecting this information via this form helps to ensure that requested data is provided in a uniform way, reporting burdens are minimized, errors in budget formulation and calculation are nullified, and the impact of collection requirements on respondents are described in its instructions. VETS will use the HVRP Budget and Narrative Form for monitoring the expenditure of grant funds according to the program budget throughout the period of performance, and to satisfy the regulatory requirements in accordance with 2 CFR 200.308(c) if there is a need for the grant recipient to request a budget revision. This collection instrument is clearly understood by respondents, and the information is easily evaluable by VETS for cost principles guidelines found in 2 CFR part 200, subpart E.

II. Desired Focus of Comments

VETS is particularly interested in comments on these topics:

• Evaluate whether the collection of information is necessary for the proper performance of the functions of the Agency, including whether the information has practical utility;

• Evaluate the accuracy of VETS' estimate of the burden related to the information collection, including the validity of the methodology and assumptions used in the estimate;

• Suggest methods to enhance the quality, utility, and clarity of the information to be collected; and

• Minimize the burden of the information collection on those who are to respond, including through the use of appropriate automated, electronic, mechanical, or other technological collection techniques or other forms of information technology, e.g., permitting electronic submission of responses.

Documents related to this information collection request are available at https://regulations.gov and at DOL-VETS located at https://www.dol.gov/agencies/vets/programs/hvrp. Questions about the information collection requirements may be directed to the person listed in the FOR FURTHER INFORMATION section of this notice.

III. Current Actions

This information collection request concerns HVRP Budget and Narrative Form. VETS has listed the data with respect to the number of respondents, responses, burden hours, and burden costs supporting this information collection request. VETS seeks PRA authorization for this information collection for three (3) years. OMB authorization for an Information Collection Review cannot be for more than three (3) years without renewal.

Type of Review: New Collection.

Agency: VETS.

OMB Control Number: 1293-0NEW.

Affected Public: Businesses or other for-profits, Not-for-profit institutions, State and Local Governments.

Number of Respondents: 151.

Annual Burden Hours: 6.

Annual Respondent or Recordkeeper Cost: $448.68.

Estimated Total Annual Burden Hours: 906.

VETS Forms: HVRP Budget and Narrative Form.

Comments submitted in response to this notice will be summarized in the request for Office of Management and Budget approval of the proposed information collection request; they will become a matter of public record and will be available at https://www.reginfo.gov.

Dated: June 5, 2025.
Jessie Duff,
Deputy Assistant Secretary of Policy, Veterans' Employment and Training Service.

[FR Doc. 2025-10474 Filed 6-9-25; 8:45 am]

BILLING CODE 4510-79-P